DEPARTMENT OF DEFENSE

GENERAL SERVICES ADMINISTRATION

NATIONAL AERONAUTICS AND SPACE ADMINISTRATION

48 CFR Chapter 1

[Docket No. FAR 2017-0051, Sequence No. 1]

Federal Acquisition Regulation; Federal Acquisition Circular 2005-96; Introduction

AGENCY: Department of Defense (DoD), General Services Administration (GSA), and National Aeronautics and Space Administration (NASA).

ACTION: Summary presentation of a final rule.

SUMMARY: This document summarizes the Federal Acquisition Regulation (FAR) rule agreed to by the Civilian Agency Acquisition Council and the Defense Acquisition Regulations Council (Councils) in this Federal Acquisition Circular (FAC) 2005-96. A companion document, the Small Entity Compliance Guide (SECG), follows this FAC. The FAC, including the SECG, is available via the Internet at http://www.regulations.gov.

DATES: For effective date see separate document, which follows.

FOR FURTHER INFORMATION CONTACT: Ms. Zenaida Delgado, Procurement Analyst, at 202-969-7207 for clarification of content. For information pertaining to status or publication schedules, contact the Regulatory Secretariat at 202-501-4755. Please cite FAC 2005-96, FAR Case 2017-015.

Rule Listed in FAC 2005-96
Subject | FAR case | Analyst
Removal of Fair Pay and Safe Workplaces Rule | 2017-015 | Delgado.

SUPPLEMENTARY INFORMATION: Summary for the FAR rule follows. For the actual revisions and/or amendments made by this FAR case, refer to the specific item number and subject set forth in the document following this item summary. FAC 2005-96 amends the FAR as specified below:

Removal of Fair Pay and Safe Workplaces Rule (FAR Case 2017-015)

This final rule rescinds the final rule at 81 FR 58562 (August 25, 2016). This was FAR Case 2014-025, Fair Pay and Safe Workplaces, which was a significant rule under Executive Order (E.O.) 12866 and a major rule under 5 U.S.C. 804. Because of a Federal court injunction, the only provision or clause that had gone into effect was FAR 52.222-60, Paycheck Transparency (Executive Order 13673), which was included in solicitations starting on January 1, 2017. On March 27, 2017, Public Law 115-11 disapproved the rule under the Congressional Review Act. Therefore, by law, the rule has no force or effect, including the FAR 52.222-60 clause. Also on March 27, 2017, E.O. 13782, Revocation of Federal Contracting Executive Orders, rescinded the E.O.s that originally authorized the rule. All steps should be taken to ensure that no sections, provisions, or clauses of the final rule are implemented.

Dated: October 11, 2017.
William F. Clark,
Director, Office of Government-wide Acquisition Policy, Office of Acquisition Policy, Office of Governmentwide Policy.

Federal Acquisition Circular (FAC) 2005-96 is issued under the authority of the Secretary of Defense, the Administrator of General Services, and the Administrator for the National Aeronautics and Space Administration.

Unless otherwise specified, all Federal Acquisition Regulation (FAR) and other directive material contained in FAC 2005-96 is effective November 6, 2017.

Dated: October 23, 2017.
Shay D. Assad,
Director, Defense Pricing/Defense, Procurement and Acquisition Policy.
Dated: October 11, 2017.
Jeffrey A. Koses,
Senior Procurement Executive/Deputy CAO, Office of Acquisition Policy, U.S. General Services Administration.
Dated: October 3, 2017.
William P. McNally,
Assistant Administrator, Office of Procurement National Aeronautics and Space Administration.

[FR Doc. 2017-23589 Filed 11-3-17; 8:45 am]

BILLING CODE 6820-EP-P